DEPARTMENT OF HEALTH AND HUMAN SERVICES

Centers for Disease Control and Prevention

Disease, Disability, and Injury Prevention and Control

Special Emphasis Panel (SEP): Autism Therapy Evaluation Effects of Hyperbaric Oxygen Therapy on Children with Autism, Request For Application (RFA), DD8EM-801.

In accordance with Section 10(a)(2) of the Federal Advisory Committee Act (Pub. L. 92-463), the Centers for Disease Control and Prevention (CDC) announces the aforementioned meeting:

Time and Date: 1:30 p.m.-3 p.m., January 29, 2009 (Closed).

Place: Teleconference.

Status: The meeting will be closed to the public in accordance with provisions set forth in Section 552b(c) (4) and (6), Title 5 U.S.C., and the Determination of the Director, Management Analysis and Services Office, CDC, pursuant to Public Law 92-463.

Matters To Be Discussed: The meeting will include the review, discussion, and evaluation of an application received in response to “Autism Therapy Evaluation Effects of Hyperbaric Oxygen Therapy on Children with Autism, RFA DD8EM-801.”

This Federal Register notice is being published less than fifteen days prior to the meeting date, due to the decision of the National Center for Chronic Disease Prevention and Health Promotion to allow a deliberative discussion on this application.

Contact Person for More Information: Brenda Colley Gilbert, Ph.D., Scientific Review Administrator, 2877 Brandywine Road, Atlanta, Georgia 30341, telephone: (770) 488-8390.

The Director, Management Analysis and Services Office, has been delegated the authority to sign Federal Register notices pertaining to announcements of meetings and other committee management activities, for both CDC and the Agency for Toxic Substances and Disease Registry.

Lorenzo J. Falgiano,
Acting Director, Management Analysis and Services Office, Centers for Disease Control and Prevention.

[FR Doc. E9-1690 Filed 1-26-09; 8:45 am]

BILLING CODE 4163-18-P